DEPARTMENT OF ENERGY

Federal Energy Regulatory Commission

[Project No. 10489-020]

City of River Falls Municipal Utilities; Notice of Waiver Period for Water Quality Certification Application

On April 26, 2022, the City of River Falls Municipal Utilities submitted to the Federal Energy Regulatory Commission (Commission) a copy of its application for a Clean Water Act section 401(a)(1) water quality certification filed with the Wisconsin Department of Natural Resources (Wisconsin DNR), in conjunction with the above captioned project. Pursuant to 40 CFR 121.6 and section 5.23(b) of the Commission's regulations,¹ we hereby notify Wisconsin DNR of the following:

¹ 18 CFR [4.34(b)(5)/5.23(b)/153.4/157.22].

Date of Receipt of the Certification Request: April 28, 2022.²

² The City of River Falls Municipal Utilities filed proof of the certification request on April 29, 2022.

Reasonable Period of Time to Act on the Certification Request: One year (April 28, 2023).

If Wisconsin DNR fails or refuses to act on the water quality certification request on or before the above date, then the agency certifying authority is deemed waived pursuant to section 401(a)(1) of the Clean Water Act, 33 U.S.C. 1341(a)(1).

Dated: March 21, 2023.
Debbie-Anne A. Reese,
Deputy Secretary.

[FR Doc. 2023-06365 Filed 3-27-23; 8:45 am]

BILLING CODE 6717-01-P